DEPARTMENT OF HOMELAND SECURITY

Bureau of Customs and Border Protection

Airport and Seaport User Fee Advisory Committee Meeting

AGENCY: Customs and Border Protection, Department of Homeland Security.

ACTION: Notice of meeting.

SUMMARY: This document announces an open committee meeting of the Customs and Border Protection Airport and Seaport User Fee Federal Advisory Committee.

DATES: Wednesday, April 14, 2004, at 1 p.m.

ADDRESSES: Customs International Briefing Conference Room (B 1.5-10), Ronald Reagan Building, 1300 Pennsylvania Avenue, NW., Washington, DC 20229.

FOR FURTHER INFORMATION CONTACT: Roberto Williams, Office of Finance, Room 4.5A, 1300 Pennsylvania Avenue, NW., Washington, DC 20229, telephone: (202) 927-1101; email: Roberto.M.Williams@dhs.gov.

SUPPLEMENTARY INFORMATION: This document announces the twenty-seventh meeting of Customs and Border Protection Airport and Seaport User Fee Advisory Committee. The meeting will be held on Wednesday, April 14, 2004, at 1 p.m. at the Customs International Briefing Conference Room (B 1.5-10), Ronald Reagan Building, 1300 Pennsylvania Avenue, NW., Washington, DC 20229.

Purpose of Committee

The purpose of this Committee is the performance of advisory responsibilities pursuant to section 286(k) of the Immigration and Nationality Act (INA), as amended, 8 U.S.C. 1356(k) and the Federal Advisory Committee Act, 5 U.S.C. app. 2. The responsibility of this standing Advisory Committee is to advise on issues related to the performance of Airport and Seaport immigration services. This advice should include, but need not be limited to, the time period which such services should be performed, the proper number and deployment of inspection officers, the level of fees, and the appropriateness of any proposed fee. These responsibilities are related to the assessment of an immigration user fee pursuant to section 286(d) of the INA, as amended, 8 U.S.C. 1356(d). The Advisory Committee focuses its attention on those areas of most concern and benefit to the travel industry, the traveling public, and the Federal Government.

Agenda of Meeting

The agenda of the April 14 meeting is as follows:

Agenda:

1. Introduction of the Committee members.

2. Discussion of administrative issues.

3. Discussion of activities since last meeting.

4. Discussion of specific concerns and questions of Committee members.

5. Discussion of future traffic trends.

6. Discussion of relevant written statements submitted in advance by members of the public.

7. Scheduling of next meeting.

Public Participation

The meeting is open to the public, but advance notice of attendance is required to ensure adequate seating. In order to be included on the list of those cleared for admittance, persons planning to attend must notify, at least 5 days prior to the meeting, Roberto Williams, Office of Finance, Room 4.5A, 1300 Pennsylvania Avenue, NW., Washington, DC 20229, telephone: (202) 927-1101; email: Roberto.M.Williams@dhs.gov. Members of the public may submit written statements at any time before or after the meeting to Mr. Williams for consideration by this Advisory Committee. Only written statements received by the contact person at least 5 days prior to the meeting will be considered for discussion at the meeting.

Dated: March 22, 2004.
Jo Ellen Cohen,
Acting Assistant Commissioner, Office of Finance.

[FR Doc. 04-6729 Filed 3-24-04; 8:45 am]

BILLING CODE 4820-02-P